NATIONAL COUNCIL ON DISABILITY

Sunshine Act Meetings

TIME AND DATE: The Members of the National Council on Disability (NCD) will hold a quarterly business meeting on Thursday, November 7, 2024, 1:00 p.m.-4:00 p.m., Eastern Standard Time (EST).

PLACE: This meeting will occur via Zoom videoconference. Registration is required. Interested parties are encouraged to join the meeting in an attendee status by Zoom Desktop Client, Mobile App, or Telephone to dial-in. Updated information is available on NCD's event page at https://www.ncd.gov/meeting/2024-11-07-nov-7-2024-council-meeting/. To register for the Zoom webinar, please use the following URL: https://events.zoomgov.com/ev/AioHqgW_2CRBZxxCdmUEs-cZKhGXqvAbM0kPOlyZzkpPC-DakrJO~ApymXj7jq6MmWodMQXHvW1q_h9WF_26fGDcuEFnW2kIvOurK8ef-QYO4YQ.

In the event of audio disruption or failure, attendees can follow the meeting by accessing the Communication Access Realtime Translation (CART) link provided. CART is text-only translation that occurs real time and is not an exact transcript.

STATUS: This meeting is open to the public in its entirety.

MATTERS TO BE CONSIDERED: Following welcome remarks and introductions, the Executive Committee will provide their report, including financial and governance reports; followed by the Chair's report; policy updates; a presentation on NCD's accessible ground transportation and people with mobility disabilities project, followed by Council member Q&A; a break; Council member community report outs; a disability data presentation, followed by Council member Q&A; public comment on voting experiences; concluding with adjournment.

Agenda: The times provided below are approximations for when each agenda item is anticipated to be discussed (all times Eastern Daylight Time):

Thursday, November 7, 2024

1:00-1:05 p.m. Welcome and Call to Order

1:05-1:20 p.m. Executive Committee Report Outs. Financial Report, Governance Report

1:20-1:25 p.m. Chair's Report

1:25-1:40 p.m. Policy Updates

1:40-2:15 p.m. Accessible Ground Transportation and People with Mobility Disabilities Project Presentation, Q&A from Council Members

2:15-2:30 p.m. BREAK

2:30-3:00 p.m. Council Member Report Outs on Community Outreach/Input

3:00-3:30 p.m. Disability Data Update, Q&A from Council Members

3:30-3:31 p.m. Verbal recap of any chat comments received

3:30-4:00 p.m. Public Comment

4:00 p.m. Adjourn

Public Comment: Your participation during the public comment period provides an opportunity for us to hear from you—individuals, businesses, providers, educators, parents and advocates. For the November 7 Council meeting, NCD will have a public comment session to receive perspectives on voting experiences in the Nov. 5, 2024 General Election. Commenters are encouraged to respond to the following prompts regarding their voting experience during the November 5, 2024 General Election:

1. Did you experience any accessibility issues when you voted? What were they?

2. If you did experience any accessibility issues when you voted, were the poll workers knowledgeable on how to assist so you could exercise your right to vote independently?

Additional information on specifics of the topic and guidelines are available on NCD's public comment page at https://www.ncd.gov/public-comment/.

Because of the virtual format, the Council will receive public comment by email or by video or audio over Zoom. To provide public comment during an NCD Council Meeting, NCD now requires advanced registration by either signing up to present while registering for the meeting or sending an email to PublicComment@ncd.gov with the subject line “Public Comment” and your name, organization, state, and topic of comment included in the body of your email. Deadline for registration is Nov. 5, 8:00 p.m. EST.

While public comment can be submitted on any topic over email, comments during the meeting are explicitly for voting experiences in the Nov. 5 General Election.

If any time remains following the conclusion of the comments of those registered, NCD may call upon those who desire to make comments but did not register.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please indicate on the registration form or notify Stacey Brown by sending an email to sbrown@ncd.gov as soon as possible, no later than 24 hours before the meeting.

Language Access: If you need language access services, please indicate on the registration form or notify Nicholas Sabula by sending an email to nsabula@ncd.gov as soon as possible, no later than by November 1.

Due to last-minute confirmations or cancellations, NCD may substitute items without advance public notice.

Dated: October 23, 2024.
Anne C. Sommers McIntosh,
Executive Director.

[FR Doc. 2024-25064 Filed 10-25-24; 11:15 am]

BILLING CODE 8421-02-P